DEPARTMENT OF HEALTH AND HUMAN SERVICES

Availability of Draft NTP Technical Reports; Request for Comments; Announcement of a Public Meeting To Peer Review Draft NTP Technical Reports

AGENCY: National Toxicology Program (NTP), National Institute of Environmental Health Sciences (NIEHS), National Institutes of Health, HHS.

ACTION: Availability of Draft Reports; Request for Comments; and Announcement of a Public Meeting.

SUMMARY: The NTP announces the availability of seven draft NTP Technical Reports (TRs) tentatively scheduled for peer review by an NTP Technical Reports Peer-Review Panel at a meeting on February 8-9, 2012. The meeting is open to the public with time scheduled for oral public comment. The NTP also invites written comments on the draft reports (see “Request for Comments” below). Information about this meeting, including draft reports and preliminary agenda, will be available on the NTP Web site (http://ntp.niehs.nih.gov/go/36051). Summary minutes from the peer review will be posted on the NTP Web site following the meeting.

DATES: The meeting will be held on February 8-9, 2012. The draft NTP TRs should be available for public comment by December 19, 2011. The deadline to submit written comments is January 25, 2012, and the deadline for pre-registration to attend the meeting and/or provide oral comments at the meeting is February 1, 2012.

ADDRESSES: The meeting will be held at the Rodbell Auditorium, Rall Building, NIEHS, 111 T.W. Alexander Drive, Research Triangle Park, NC 27709. Public comments and any other correspondence on the draft TRs should be sent to Danica Andrews, Designated Federal Official, Office of Liaison, Policy and Review, Division of the NTP, NIEHS, P.O. Box 12233, MD K2-03, Research Triangle Park, NC 27709, FAX: (919) 541-0295, or andrewsda@niehs.nih.gov. Courier address: 530 Davis Drive, Room 2136, Morrisville, NC 27560. Persons needing interpreting services in order to attend should contact (301) 402-8180 (voice) or (301) 435-1908 (TTY). Requests should be made at least five business days in advance of the meeting.

FOR FURTHER INFORMATION CONTACT: Danica Andrews, Designated Federal Official, (919) 541-2595, andrewsda@niehs.nih.gov.

SUPPLEMENTARY INFORMATION:

Preliminary Agenda Topics and Availability of Meeting Materials

The agenda topic is the peer review of the findings and conclusions of draft NTP TRs of toxicology and carcinogenesis studies in conventional or genetically modified rodent models. The preliminary agenda listing the draft reports and electronic files (PDF) of the draft reports should be available on the NTP Web site by December 19, 2011. Any additional information, when available, will be posted on the NTP Web site (http://ntp.niehs.nih.gov/go/36051) or may be requested in hardcopy from the Designated Federal Official (see ADDRESSES above). Following the meeting, summary minutes will be prepared and made available on the NTP Web site. Information about the NTP testing program is found at http://ntp.niehs.nih.gov/go/test.

Attendance and Registration

The meeting is scheduled for February 8-9, 2012, from 8:30 a.m. EST to adjournment at approximately 4:30 p.m. on February 8 and approximately noon on February 9 and is open to the public with attendance limited only by the space available. Individuals who plan to attend are encouraged to register online at the NTP Web site (http://ntp.niehs.nih.gov/go/36051) by February 1, 2012, to facilitate access to the NIEHS campus. A photo ID is required to access the NIEHS campus. The NTP is making plans to webcast the meeting at http://www.niehs.nih.gov/news/video/live. Registered attendees are encouraged to access the meeting page to stay abreast of the most current information regarding the meeting.

Request for Comments

The NTP invites written comments on the draft reports, which should be received by January 25, 2012, to enable review by the peer-review panel and NTP staff prior to the meeting. Persons submitting written comments should include their name, affiliation, mailing address, phone, email, and sponsoring organization (if any) with the document. Written comments received in response to this notice will be posted on the NTP Web site, and the submitter will be identified by name, affiliation, and/or sponsoring organization.

Public input at this meeting is also invited, and time is set aside for the presentation of oral comments on the draft reports. In addition to in-person oral comments at the meeting at the NIEHS, public comments can be presented by teleconference line. There will be 50 lines for this call; availability will be on a first-come, first-served basis. The available lines will be open from 8 a.m. until adjournment on February 8 and 9, although public comments will be received only during the formal public comment period for each draft report. Each organization is allowed one time slot per draft report. At least 7 minutes will be allotted to each speaker, and if time permits, may be extended to 10 minutes at the discretion of the chair. Persons wishing to make an oral presentation are asked to register via online registration at http://ntp.niehs.nih.gov/go/36051, phone, or email (see ADDRESSES above) by February 1, 2012, and if possible, to send a copy of the statement or talking points at that time to Ms. Andrews. Written statements can supplement and may expand the oral presentation. Registration for oral comments will also be available at the meeting, although time allowed for presentation by on-site registrants may be less than that for pre-registered speakers and will be determined by the number of persons who register on-site.

Background Information on NTP Panels

NTP panels are technical, scientific advisory bodies established on an “as needed” basis to provide independent scientific peer review and to advise the NTP on agents of public health concern, new/revised toxicological test methods, or other issues. These panels help ensure transparent, unbiased, and scientifically rigorous input to the program for its use in making credible decisions about human hazard, setting research and testing priorities, and providing information to regulatory agencies about alternative methods for toxicity screening. The NTP welcomes nominations of scientific experts for upcoming panels. Scientists interested in serving on an NTP panel should provide a current curriculum vita to Ms. Andrews (see ADDRESSES). The authority for NTP panels is provided by 42 U.S.C. 217a; section 222 of the Public Health Service (PHS) Act, as amended. The panel is governed by the Federal Advisory Committee Act, as amended (5 U.S.C. Appendix 2), which sets forth standards for the formation and use of advisory committees.

Dated: December 7, 2011.
John R. Bucher,
Associate Director, National Toxicology Program.

[FR Doc. 2011-32106 Filed 12-13-11; 8:45 am]

BILLING CODE 4140-01-P